OFFICE OF PERSONNEL MANAGEMENT

Proposed Collection; Emergency Request for Review of an Information Collection: OPM Form 1644

AGENCY: Office of Personnel Management.

ACTION: Notice.

SUMMARY: In accordance with the Paperwork Reduction Act of 1995 (Pub. L. 104-13, May 22, 1995), this notice announces that the Office of Personnel Management (OPM) will submit to the Office of Management and Budget an emergency request for review of an expiring information collection. OPM Form 1644, Child Care Provider Information: Child Care Tuition Assistance Program for Federal Employees, is used to verify that child care providers are licensed and/or regulated by local and/or State authorities. Agencies need to know that child care providers to whom they make disbursements in the form of tuition assistance subsidies are licensed and/or regulated by local and/or State authorities.

Pub. L. 106-58, passed by Congress on September 29, 1999, permits Federal agencies to use appropriated funds to help their lower income employees with their costs for child care. It is up to the agencies to decide on whether to implement this law. This is a new law and the extent to which it will be implemented, including the number of providers that will be involved, cannot be easily predicted. We estimate approximately 5000 OPM 1644 forms will be completed annually.

The form will take approximately 10 minutes to complete by each provider. The annual estimated burden is 835 hours.

Comments are particularly invited on:

—Whether the form adequately captures the information needed to verify child care provider State and/or local licensure and regulation;

—Whether our estimate of the public burden of this collection is accurate, and based on valid assumptions and methodology; and

—Ways in which we can minimize the burden of the collection of information on those who are to respond, through use of the appropriate technological collection techniques or other information collection strategies.

For copies of this proposal, contact Mary Beth Smith-Toomey on (202) 606-8358, or E-mail to mbtoomey@opm.gov.

DATES: Comments on this proposal should be received on or before January 8, 2001.

ADDRESSES: Send or deliver comments to:

Patricia F. Kinney, Director, Office of Work/Life Programs, U.S. Office of Personnel Management, 1900 E St., NW, Washington, DC 20415

and

Joseph Lackey, Agency Desk Officer, Office of Management and Budget, 725 17th St., NW Room 10235, Washington, DC 20503

FOR INFORMATION REGARDING ADMINISTRATION COORDINATION CONTACT: Brooke L. Brewer, Work/Life Program Specialist, Office of Work/Life Programs, (202) 606-2012.

U.S. Office of Personnel Management.
Janice R. Lachance,
Director.

[FR Doc. 00-33270 Filed 12-27-00; 8:45 am]

BILLING CODE 6325-01-P